DEPARTMENT OF COMMERCE

National Oceanic and Atmospheric Administration

RIN 0648-BA62

Fisheries of the Caribbean, Gulf of Mexico, and South Atlantic; Comprehensive Annual Catch Limit Amendment for the U.S. Caribbean

AGENCY: National Marine Fisheries Service (NMFS), National Oceanic and Atmospheric Administration (NOAA), Commerce.

ACTION: Notice of intent to prepare a draft environmental impact statement (DEIS); scoping meetings; request for comments.

SUMMARY: The Caribbean Fishery Management Council (Council) and NMFS intend to prepare a DEIS to describe and analyze management alternatives to be included in an amendment to the Fishery Management Plan (FMP) for the Reef Fish Fishery of Puerto Rico and the U.S. Virgin Islands (Amendment 6), an amendment to the FMP for Corals and Reef Associated Plants and Invertebrates of Puerto Rico and the U.S. Virgin Islands (Amendment 3), an amendment to the FMP for the Spiny Lobster Fishery of Puerto Rico and the U.S. Virgin Islands (Amendment 5), and an amendment to the FMP for the Queen Conch Fishery of Puerto Rico and the U.S. Virgin Islands (Amendment 3). These alternatives will consider measures to revise management reference points and status determination criteria, implement annual catch limits (ACLs) and accountability measures (AMs) to prevent overfishing in both the commercial and recreational sectors, revise management of aquarium trade species, establish recreational bag limits, establish exclusive economic zone sub-boundaries for purposes of applying accountability measures, and establish frameworks to adjust management measures as needed to constrain harvest to specified ACLs. The purpose of this notice of intent is to solicit public comments on the scope of issues to be addressed in the DEIS.

DATES: Written comments on the scope of issues to be addressed in the DEIS must be received by the Council by February 28, 2011. A series of scoping meetings will be held in February 2011. See SUPPLEMENTARY INFORMATION for the specific dates, times, and locations of the scoping meetings.

ADDRESSES: Written comments on the scope of the DEIS and requests for additional information on the amendments should be sent to NMFS, 263 13th Avenue South, Saint Petersburg, Florida 33701; telephone 727-824-5305; fax 727-825-5308; or to the Caribbean Fishery Management Council, 268 Muñoz Rivera Avenue, Suite 1108, San Juan, Puerto Rico 00918; telephone 787-766-5927; fax 787-766-6239. Comments may also be sent by e-mail to Bill.Arnold@noaa.gov or Graciela.Garcia-Moliner@noaa.gov.

FOR FURTHER INFORMATION CONTACT: Dr. William Arnold, phone 727-824-5305; fax 727-824-5308; e-mail Bill.Arnold@noaa.gov; or Graciela Garcia-Moliner, phone 787-766-5927; fax 787-766-6239; e-mail Graciela.Garcia-Moliner@noaa.gov.

SUPPLEMENTARY INFORMATION: On January 12, 2007, Congress amended the Magnuson-Stevens Fishery and Conservation Management Act (MSA) with passage of the Magnuson-Stevens Fishery and Conservation and Management Reauthorization Act (MSRA). While maintaining the requirement that “conservation and management measures shall prevent overfishing while achieving, on a continuing basis, the optimum yield from each fishery for the United States fishing industry,” the MSRA added new requirements to end and prevent overfishing via the application of ACLs and AMs.

Specifically, the MSRA requires that FMPs “establish a mechanism for specifying annual catch limits in the plan (including a multiyear plan), implementing regulations, or annual specifications, at a level such that overfishing does not occur in the fishery, including measures to ensure accountability” (MSA Section 303(a)(15)). Further, the MSRA requires such measures be implemented in 2010 for fisheries determined by the Secretary of Commerce (Secretary) to be subject to overfishing and in 2011 for all other fisheries.

Currently, there are five species or species groups that have been identified as undergoing overfishing in the U.S. Caribbean. These species or species groups are: queen conch, parrotfish, Grouper Unit 1 (Nassau grouper), Grouper Unit 4 (tiger, yellowfin, red, misty, and yellowedge grouper), and Snapper Unit 1 (black, blackfin, silk, and vermilion snapper). These determinations were made during development of the Council's Sustainable Fisheries Act Amendment (SFA). As no stock assessments had yet been able to determine stock status in the U.S. Caribbean, these determinations were based on the informed judgment of those involved in the SFA working group, which included Federal, state, and local managers, scientists, and constituents. Establishment of ACLs and AMs for each of those species or species groups is addressed in Amendment 2 to the Fishery Management Plan for the Queen Conch Fishery of Puerto Rico and the U.S. Virgin Islands and Amendment 5 to the Reef Fish Fishery Management Plan of Puerto Rico and the U.S. Virgin Islands. However, species not designated as undergoing overfishing in the Reef Fish, Queen Conch, Spiny Lobster, and Corals and Associated Plants and Invertebrates FMPs must have ACLs and AMs established by 2011.

The Council will develop a DEIS to describe and analyze management alternatives to implement the proposed provisions of these amendments. The amendments will provide updates to the best available scientific information regarding the species and species groups listed, and based on the information, the Council will determine what actions and alternatives are necessary to meet the statutory requirements for these stocks in 2011. Those alternatives may include, but are not limited to, a “no action” alternative regarding the fishery as well as alternatives to revise management reference points and status determination criteria, implement annual catch limits (ACLs) and accountability measures (AMs) to prevent overfishing in both the commercial and recreational sectors, revise management of aquarium trade species, establish recreational bag limits, establish exclusive economic zone sub-boundaries for purposes of applying accountability measures, and establish frameworks to adjust management measures as needed to constrain harvest to specified ACLs.

In accordance with NOAA's Administrative Order NAO 216-6, Section 5.02(c), the Council and NMFS have identified this preliminary range of alternatives as a means to initiate discussion for scoping purposes only. This may not represent the full range of alternatives that eventually will be evaluated by the Council and NMFS.

Once the Council and NMFS complete the DEIS associated with the amendments to the FMP for the Reef Fish Fishery of Puerto Rico and the U.S. Virgin Islands, the FMP for Corals and Reef Associated Plants and Invertebrates for Puerto Rico and the U.S. Virgin Islands, the FMP for the Spiny Lobster Fishery of Puerto Rico and the U.S. Virgin Islands, and the FMP for the Queen Conch Fishery of Puerto Rico and the U.S. Virgin Islands, it must be approved by a majority of the voting members, present and voting, of the Council. After the Council approves this document, the DEIS and associated amendments will be submitted to NMFS for filing with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS) and before adopting final management measures for the amendments. The Council will submit both the final version of the combined amendments, and the supporting FEIS, to NMFS for review by the Secretary under the MSA.

NMFS will announce, through a notice published in the Federal Register, the availability of the final version of the combined amendments for public review during the Secretarial review period. During Secretarial review, NMFS will also file the FEIS with the EPA for a final 30-day public comment period. This comment period will be concurrent with the Secretarial review period and will end prior to final agency action to approve, disapprove, or partially approve the final amendments.

NMFS will announce, through a notice published in the Federal Register, all public comment periods on the final version of the combined amendments, their proposed implementing regulations, and the associated FEIS. NMFS will consider all public comments received during the Secretarial review period, whether they are on the final amendments, the proposed regulations, or the FEIS, prior to final agency action.

Scoping Meeting Dates, Times, and Locations

All scoping meetings are scheduled to be held from 7 p.m. to 10 p.m. The meetings will be physically accessible to people with disabilities. Request for sign language interpretation or other auxiliary aids should be directed to the Council (see ADDRESSES).

February 7, 2011, DoubleTree by Hilton San Juan, DeDiego Avenue, San Juan, Puerto Rico.

February 9, 2011, Mayagüez Holiday Inn, 2701 Hostos Avenue, Mayagüez, Puerto Rico.

February 10, 2011, Holiday Inn Ponce & Tropical Casino, 3315 Ponce ByPass, Ponce, Puerto Rico.

February 16, 2011, The Buccaneer Hotel, Estate Shoys, Christiansted, St. Croix, U.S. Virgin Islands.

February 17, 2011, Holiday Inn (Windward Passage Hotel), Charlotte Amalie, St. Thomas, U.S. Virgin Islands.

Authority: 16 U.S.C. 1801 et seq.

Dated: January 21, 2011.
Emily H. Menashes,
Acting Director, Office of Sustainable Fisheries, National Marine Fisheries Service.

[FR Doc. 2011-1842 Filed 1-26-11; 8:45 am]

BILLING CODE 3510-22-P